DEPARTMENT OF AGRICULTURE

Food Safety and Inspection Service

[Docket No. 04-025N]

Codex Alimentarius Commission: 22nd Session of the Codex Committee on Processed Fruits and Vegetables

AGENCY: Food Safety and Inspection Service, USDA.

ACTION: Notice of public meeting, request for comments.

SUMMARY: This notice informs the public that the Office of the Under Secretary for Food Safety, United States Department of Agriculture (USDA), and the Agricultural Marketing Service (AMS), USDA, are sponsoring a public meeting on August 31, 2004, to provide information and receive public comments on agenda items that will be discussed at the Codex Committee on Processed Fruits and Vegetables (CCPFV), which will be held in Alexandria, Virginia on September 27-October 1, 2004. The Under Secretary and AMS recognize the importance of providing interested parties with information about the Processed Fruits and Vegetables Committee of the Codex Alimentarius Commission (Codex) and to address items on the Agenda for the 22nd CCPFV.

DATES: The public meeting is scheduled for Tuesday, August 31, 2004, from 10 a.m. to 12 noon.

ADDRESSES: The public meeting will be held in Room 3501 South Building, United States Department of Agriculture, 1400 Independence Ave., SW., Washington, DC. To receive copies of the documents referenced in the notice contact the Docket Clerk, (FSIS Docket Room), U.S. Department of Agriculture, Food Safety and Inspection Service, Room 102, Cotton Annex, 300 12th Street, SW., Washington, DC 20250. The documents will also be accessible via the World Wide Web at the following address http://www.codexalimentarius.net/ccpfv22/pf22_01e.htm. FSIS invites interested persons to submit comments on this notice. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

All submissions received must include the Agency name and docket number 04-025N. All comments submitted in response to this notice, as well as research and background information used by FSIS in developing this document, will be available for public inspection in the FSIS Docket Room at the address listed above between 8:30 a.m. and 4:30 p.m., Monday through Friday. The comments also will be posted on the Agency's Web site at http://www.fsis.usda.gov/OPPDE/rdad/FRDockets.htm.

FOR FURTHER INFORMATION CONTACT: Ellen Matten, U.S. Codex Office, Food Safety and Inspection Service, Room 4861, South Building, 1400 Independence Avenue, SW., Washington, DC 20250, phone: (202) 205-7760, fax: (202) 720-3157. Persons requiring a sign language interpreter or other special accommodations should notify Ms. Matten at the above number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, the Food and Drug Administration of the Department of Health and Human Services, and the Environmental Protection Agency manage and carry out U.S. Codex.

The Codex Committee on Processed Fruits and Vegetables elaborates world wide standards for various processed fruits and vegetables, including certain dried and canned products. This committee does not cover standards for fruit and vegetable juices. The Commission has also allocated to this Committee the work of revision of standards for quick frozen fruits and vegetables. The Committee is chaired by the United States of America.

Issues To Be Discussed at the Public Meeting

The provisional agenda items will be discussed during the public meeting:

1. Adoption of the Agenda.

2. Matters Referred by the Codex Alimentarius Commission and other Codex Committees.

3. Consideration of Codex Draft Revised Standards at Step 7.

Pickled Products.

4. Consideration of Proposed Draft Codex Standards at Step 4.

Processed Tomato Concentrates.

Canned Tomatoes.

Canned Vegetables, including Guidelines for Packing Media for Canned Vegetables.

Jams, Jellies and Marmalades.

Soy Sauce.

Canned Citrus Fruits.

5. Proposals for Amendments to the Priority List for the Standardization of Processed Fruits and Vegetables.

6. Other Business and Future Work.

Methods of Analysis and Sampling for Processed Fruits and Vegetables.

Each issue listed will be fully described in documents distributed, or to be distributed, by the United States' Secretariat to the Meeting. Members of the public may access or request copies of these documents (see ADDRESSES).

Public Meeting

At the August 31st public meeting, the agenda items will be described, discussed, and attendees will have the opportunity to pose questions and offer comments. Comments may be sent to the FSIS Docket Room (see ADDRESSES). Written comments should state that they relate to activities of the 22nd CCPFV, docket number 04-025N.

Additional Public Notification

Public awareness of all segments of rulemaking and policy development is important. Consequently, in an effort to ensure that the public and in particular minorities, women, and persons with disabilities, are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Done in Washington, DC on August 9, 2004.
F. Edward Scarbrough,
U.S. Manager for Codex Alimentarius.

[FR Doc. 04-18500 Filed 8-12-04; 8:45 am]

BILLING CODE 3410-DM-P